DEPARTMENT OF HOUSING AND URBAN DEVELOPMENT

[Docket No. FR-5750-N-45]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Ms. Theresa M. Ritta, Chief Real Property Branch, the Department of Health and Human Services, Room 5B-17, Parklawn Building, 5600 Fishers Lane, Rockville, MD 20857, (301) 443-6672 (this is not a toll-free number). HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses:: AGRICULTURE: Ms. Debra Kerr, Department of Agriculture, Reporters Building, 300 7th Street SW., Room 300, Washington, DC 20024, (202) 720-8873; AIR FORCE: Mr. Robert E. Moriarty, P.E., AFCE/CI, 2261 Hughes Avenue, Ste. 155, JBSA Lackland, TX, 78236-9853, (210) 395-9503; NAVY: Mr. Steve Matteo, Department of the Navy, Asset Management Division, Naval Facilities Engineering Command, Washington Navy Yard, 1330 Patterson Ave. SW., Suite 1000, Washington, DC 20374, (202) 685-9426; (these are not toll-free numbers).

Dated: October 30, 2014.
Brian P. Fitzmaurice,
Director, Division of Community Assistance, Office of Special Needs Assistance Programs.

TITLE V, FEDERAL SURPLUS PROPERTY PROGRAM FEDERAL REGISTER REPORT FOR 11/07/2014

Unsuitable Properties

Building

California

CRR Campground Managers Office

1900 Jameson Beach Rd.

South Lake Tahoe CA 96150

Landholding Agency: Agriculture

Property Number: 15201440003

Status: Excess

Comments: documented deficiencies: bldg. has been abandoned for decades & is falling down; represent a clear threat to physical safety.

Reasons: Extensive deterioration

Building 9

4600 Belleau Ave., B-224

San Diego CA 92140

Landholding Agency: Navy

Property Number: 77201440014

Status: Excess

Comments: documented deficiencies: several exterior wall cracks; structural damage; clear threat to personal safety; public access denied & no alternative method to gain access w/out compromising nat'l sec.

Reasons: Extensive deterioration; Secured Area

Connecticut

Building 160

Off Growler Ave.

Groton CT 06349

Landholding Agency: Navy

Property Number: 77201440015

Status: Excess

Comments: public access denied & no alternative method to gain access w/out compromising nat'l sec.

Reasons: Secured Area

Michigan

Building 891

27500 Ammo Road

Selfridge ANGB MI 48045

Landholding Agency: Air Force

Property Number: 18201440003

Status: Unutilized

Comments: property located within an airport runway clear zone; public access denied & no alternative method to gain access w/out compromising nat'l sec.

Reasons: Within airport runway clear zone; Secured Area

Building 890

27550 Ammo Road

Selfridge ANGB MI 48045

Landholding Agency: Air Force

Property Number: 18201440004

Status: Unutilized

Comments: property located within an airport runway clear zone; public access denied & no alternative method to gain access w/out compromising nat'l sec.

Reasons: Within airport runway clear zone; Secured Area

North Carolina

Building 164

MCAS Cherry Point

Cherry Point NC 28533-0006

Landholding Agency: Navy

Property Number: 77201440011

Status: Excess

Comments: Property located within an airport run way clear zone; public access denied & no alternative method to gain access w/out compromising nat'l sec.

Reasons: Within airport runway clear zone; Secured Area

Building 478

MCAS Cherry Point

Cherry Point NC 28533-0006

Landholding Agency: Navy

Property Number: 77201440012

Status: Excess

Comments: public access denied & no alternative method to gain access w/out compromising nat'l sec.

Reasons: Secured Area

Building 229

MCAS Cherry Point

Cherry Point NC 28533-0006

Landholding Agency: Navy

Property Number: 77201440013

Status: Excess

Comments: public access denied & no alternative method to gain access w/out compromising nat'l sec.

Reasons: Secured Area

13 Buildings

MCAS Cherry Point

MCAS Cherry Point NC 28533

Landholding Agency: Navy

Property Number: 77201440016

Status: Excess

Directions: 1383; 1385; 1384; 4641; 1387; 1388; 1374; 1375; 1376; 1379; 1377; 1380; 1378

Comments: properties located w/in an military runway clear zone; properties located in secured area where public access denied and no alternative method to gain access w/out compromising national security.

Reasons: Secured Area; Within airport runway clear zone

Bldgs. 1502 & 1797

MCAS Cherry Point

MCAS Cherry Point NC 28533

Landholding Agency: Navy

Property Number: 77201440017

Status: Excess

Comments: properties located in a secured area where public access denied & no alternative method to gain access w/out compromising national security.

Reasons: Secured Area

[FR Doc. 2014-26196 Filed 11-6-14; 8:45 am]

BILLING CODE 4210-67-P